DEPARTMENT OF THE INTERIOR

National Park Service

[NPS-NER-BOHA- 15706; PPMPSPD1Z.YM0000] [PPNEBOHAS1]

Notice of Meeting of the Boston Harbor Islands National Recreation Area Advisory Council

AGENCY: National Park Service, Interior.

ACTION: Notice of Meeting.

SUMMARY: This notice announces a meeting of the Boston Harbor Islands National Recreation Area Advisory Council. The agenda includes a report from the nominating and bylaws committee, 2016 anniversaries, and park updates.

DATES: The Council will meet on Wednesday, June 11, 2014, from 4:00 p.m. to 6:00 p.m. (EASTERN).

ADDRESSES: Boston Harbor Islands Partnership Office, 15 State Street, 8th floor Conference Room, Boston, MA 02109.

FOR FURTHER INFORMATION CONTACT: Giles Parker, Superintendent and Designated Federal Officer, Boston Harbor Islands Partnership, 15 State Street, Suite 1100, Boston, MA 02109, by telephone (617) 223-8669, or email giles_parker@nps.gov.

SUPPLEMENTARY INFORMATION: This meeting is open to the public. Those wishing to submit written comments may contact the Designated Federal Officer for the Council, Giles Parker, by mail at National Park Service, Boston Harbor Islands Partnership, 15 State Street, Suite 1100, Boston, MA 02109. Before including your address, telephone number, email address, or other personal identifying information in your comment, you should be aware that your entire comment—including your personal identifying information—may be made publicly available at any time. While you may ask us in your comment to withhold your personal identifying information from public review, we cannot guarantee that we will be able to do so.

The Council was appointed by the Director of the National Park Service pursuant to Public Law 104-333. The purpose of the Council is to advise and make recommendations to the Boston Harbor Islands Partnership with respect to the implementation of a management plan and park operations. Efforts have been made locally to ensure that the interested public is aware of the meeting dates.

Dated: May 19, 2014.
Alma Ripps,
Chief, Office of Policy.

[FR Doc. 2014-11899 Filed 5-21-14; 8:45 am]

BILLING CODE 4310-WV-P